DEPARTMENT OF LABOR

Employment and Training Administration

Notice of a Public Meeting of the Advisory Committee on Apprenticeship (ACA)

AGENCY: Employment and Training Administration (ETA), Labor.

ACTION: Notice of a public meeting.

SUMMARY: Pursuant to Section 10 of the Federal Advisory Committee Act (FACA) (5 U.S.C. App. 2 § 10), notice is hereby given to announce an open meeting of the Advisory Committee on Apprenticeship (ACA) on Tuesday, September 22, 2015 and Wednesday, September 23, 2015. The meeting will convene over a day and a half. The ACA is a discretionary committee established by the Secretary of Labor, in accordance with FACA, as amended in 5 U.S.C. App. 2, and its implementing regulations (41CFR 101-6 and 102-3). All meetings of the ACA are open to the public.

DATES: The meeting will begin at approximately 1:00 p.m. Eastern Standard Time on Tuesday, September 22, 2015, at the U.S. Department of Labor, Frances Perkins Building, 200 Constitution Avenue NW., Washington, DC 20210, and will continue until approximately 5:00 p.m. The meeting will reconvene on Wednesday, September 23, 2015, at approximately 9:00 a.m. Eastern Standard Time at the U.S. Department of Labor, Frances Perkins Building, 200 Constitution Avenue NW., Washington, DC 20210 and adjourn at approximately 5:00 p.m. Any updates to the agenda and meeting logistics will be posted on the Office of Apprenticeship's homepage: http://www.dol.gov/apprenticeship.

FOR FURTHER INFORMATION CONTACT: The Designated Federal Official, Mr. John V. Ladd, Administrator, Office of Apprenticeship, Employment and Training Administration, U.S. Department of Labor, 200 Constitution Avenue NW., Room N-5311, Washington, DC 20210, Telephone: (202) 693-2796 (this is not a toll-free number).

SUPPLEMENTARY INFORMATION: In order to promote openness, and increase public participation, webinar and audio conference technology will be used throughout the meeting. Webinar and audio instructions will be posted prominently on the Office of Apprenticeship homepage: http://www.dol.gov/apprenticeship. Members of the public can attend the meeting in-person or virtually. Members of the public that will attend the meeting in-person are encouraged to arrive early to allow for security clearance into the Frances Perkins Building.

Security and Transportation Instructions for the Frances Perkins Building

Meeting participants should use the visitor's entrance to access the Frances Perkins Building, one block north of Constitution Avenue on 3rd and C Streets NW. For security purposes meeting participants must:

1. Present valid photo identification (ID) to receive a visitor badge.

2. Know the name of the event you are attending: the meeting event is the Advisory Committee on Apprenticeship meeting.

3. Visitor badges are issued by the security officer at the Visitor Entrance located at 3rd and C Streets NW., as described above.

4. Laptops and other electronic devices may be inspected and logged for identification purposes.

5. Due to limited parking options, Metro rail is the easiest way to travel to the Frances Perkins Building. For individuals wishing to take metro rail, the closest metro stop to the building is Judiciary Square on the Red Line.

Notice of Intent To Attend the Meeting

All meeting participants are being asked to submit a notice of intent to attend by Wednesday, September 9, 2015, via email to Mr. John V. Ladd at oa.administrator@dol.gov, with the subject line “September 2015 ACA Meeting.”

1. Please indicate if you will be attending virtually, or in person, to ensure adequate space is arranged to accommodate all meeting participants.

2. If individuals have special needs and/or disabilities that will require special accommodations, please contact Kenya Huckaby on (202) 693-3795 or via email at huckaby.kenya@dol.gov no later than Wednesday, September 9, 2015.

3. Any member of the public who wishes to file written data or comments pertaining to the agenda may do so by sending the data or comments to Mr. John V. Ladd via email at oa.administrator@dol.gov, subject line “September 2015 ACA Meeting,” or to the Office of Apprenticeship, Employment and Training Administration, U.S. Department of Labor, Room N-5311, 200 Constitution Avenue NW., Washington, DC 20210. Such submissions will be included in the record for the meeting if received by Wednesday, September 9, 2015.

4. See below regarding members of the public wishing to speak at the ACA meeting.

Purpose of the Meeting and Topics To Be Discussed

The purpose of the meeting is to focus on apprenticeship expansion and employer engagement efforts in order to seek advice from the ACA on industry issues and how best to increase Registered Apprenticeships across the country. The agenda will cover the following topics:

• Employer Engagement and Apprenticeship Expansion

• American Apprenticeship Initiative (AAI) Grants

• The ApprenticeshipUSA Initiative

• Sectors of Excellence in Apprenticeship

• Apprentice to Journeyworker Ratios

• Competency Based Apprenticeship Models

• Increasing Opportunities in Registered Apprenticeship and Policy Updates

• Workforce Innovation and Opportunity Act

• Office of Apprenticeship and State Apprenticeship Agency Partnerships

• Other Matters of Interest to the Apprenticeship Community

• Public Comment

• Adjourn

The agenda and meeting logistics may be updated should priority items come before the ACA between the time of this publication and the scheduled date of the ACA meeting. All meeting updates will be posted to the Office of Apprenticeship's homepage: http://www.dol.gov/apprenticeship. Any member of the public who wishes to speak at the meeting should indicate the nature of the intended presentation and the amount of time needed by furnishing a written statement to the Designated Federal Official, Mr. John V. Ladd, by Wednesday, September 9, 2015. The Chairperson will announce at the beginning of the meeting the extent to which time will permit the granting of such requests.

Signed at Washington, DC.
Portia Wu,
Assistant Secretary for the Employment and Training Administration,

[FR Doc. 2015-19788 Filed 8-11-15; 8:45 am]

BILLING CODE 4510-FR-P